INTERNATIONAL TRADE COMMISSION

Sunshine Act Meeting

AGENCY HOLDING THE MEETING: United States International Trade Commission.

TIME AND DATE: March 29, 2000 at 11:00 a.m.

PLACE: Room 101, 500 E Street SW., Washington, DC 20436, Telephone: (202) 205-2000.

STATUS: Open to the public.

MATTERS TO BE CONSIDERED: 1. Agenda for future meeting: None.

2. Minutes.

3. Ratification List.

4. Inv. Nos. 701-TA-269-270 and 731-TA-311-317 and 379-380 (Review) (Brass Sheet and Strip from Brazil, Canada, France, Germany, Italy, Japan, Korea, the Netherlands, and Sweden)—briefing and vote. (The Commission will transmit its determination to the Secretary of Commerce on April 12, 2000.)

5. Inv. Nos. 731-TA-367-370 (Review)(Color Picture Tubes from Canada, Japan, Korea, and Singapore)—briefing and vote. (The Commission will transmit its determination to the Secretary of Commerce on April 13, 2000.)

6. Outstanding action jackets: None.

In accordance with Commission policy, subject matter listed above, not disposed of at the scheduled meeting, may be carried over to the agenda of the following meeting.

By order of the Commission.
Issued: March 17, 2000.
Donna R. Koehnke,
Secretary.

[FR Doc. 00-7255 Filed 3-20-00; 4:12 pm]

BILLING CODE 7020-02-P